DEPARTMENT OF AGRICULTURE

Forest Service

California Coast Provincial Advisory Committee

AGENCY: Forest Service, USDA.

ACTION: Notice of meeting.

SUMMARY: The California Coast Provincial Advisory Committee (PAC) will meet on March 27 and 28, 2002, in Arcata, California. The purpose of the meeting is to discuss issues relating to implementing the Northwest Forest Plan.

DATES: A business meeting will be held from 8 a.m. to 5 p.m. on March 27, 2002, at the Quality Inn conference room, Arcata. A field tour at the Redwood National Park will be held on March 28, 2002, from 8 a.m. until 2:30 p.m.

ADDRESSES: The March 27 business meeting will be held at the Quality Inn conference room, 3535 Janes Road, Arcata, CA. The March 28 field tour will begin at the Quality Inn, Arcata.

FOR FURTHER INFORMATION CONTACT: Phebe Brown, Committee Coordinator, USDA, Mendocino National Forest, 825 N. Humboldt Avenue, Willows, CA, 95988, (530) 934-3316; EMAIL pybrown@fed.us.

SUPPLEMENTARY INFORMATION: Agenda items to be covered include: (1) Presentation on barred owls (competing for habitat with northern spotted owls); (2) Regional Ecosystem Office (REO) update; (3) Presentation and discussion concerning Mendocino and Six Rivers National Forest Roads Analysis Processes; (4) Presentation on the proposal to expand designated Wilderness areas in California; (5) Presentation on Headwaters Forest Reserve Draft Environmental Impact Statement; (6) Planning for a Province fire ecology/fuels treatment workshop; (8) Aquatic Conservation Subcommittee report on next steps for the Watershed Atlas; (9) PAC attendance and use of alternates; and (1) Public comment. The meeting is open to the public. Public input opportunity will be provided at 11:45 a.m. March 27 and individuals will have the opportunity to address the Committee at that time.

Dated: February 22, 2002.
Arthur Quintana,
Acting Forest Supervisor.

[FR Doc. 02-4904 Filed 2-28-02; 8:45 am]

BILLING CODE 3410-11-M